DEPARTMENT OF HEALTH AND HUMAN SERVICES

Centers for Disease Control and Prevention

[Program Announcement 04155]

Morbidity and Risk Behavior Surveillance; Amendment

A notice announcing the availability of fiscal year (FY) 2004 funds for a cooperative agreement entitled, “Morbidity and Risk Behavior Surveillance” was published in the Federal Register Thursday, June 24, 2004, Volume 69, Number 121, pages 35369-35373. The notice is amended as follows:

On page 35371, column one, section “III. Eligible Applicants,” please change the first sentence to read: Eligible applicants are limited to those state, local, or territorial health departments randomly sampled by the RAND Corporation in a national probability sample.

On page 35371, column three, section “IV.2. Content and Form of Submission,” please change narrative plan requirements to read: Your narrative plan should address activities to be conducted over the entire project period, and should include the following items in the order listed: Plan, Methods, Objectives, Timeline, Staff, Understanding of Need, Performance Measures, Budget and Justification. Or the applicant can choose to describe activities using these items: Methods, Capacity, Objectives, Proposed Data Uses, and Budget and Justification. In either case, the budget justification will not be counted in the stated page limit.

Dated: July 8, 2004.
William P. Nichols,
Acting Director, Procurement and Grants Office, Centers for Disease Control and Prevention.

[FR Doc. 04-15915 Filed 7-13-04; 8:45 am]

BILLING CODE 4163-18-P